DEPARTMENT OF VETERANS AFFAIRS

[OMB Control No. 2900-0112]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 16, 2006.

FOR FURTHER INFORMATION CONTACT: Denise McLamb, Records Management Service (005E3), Department of Veterans Affairs, 810 Vermont Avenue, NW., Washington, DC 20420, (202) 565-8374, fax (202) 565-6950 or e-mail denise.mclamb@mail.va.gov. Please refer to “OMB Control No. 2900-0112.” Send comments and recommendations concerning any aspect of the information collection to VA's OMB Desk Officer, OMB Human Resources and Housing Branch, New Executive Office Building, Room 10235, Washington, DC 20503, (202) 395-7316. Please refer to “OMB Control No. 2900-0112” in any correspondence.

SUPPLEMENTARY INFORMATION: Title: Statement of Holder or Servicer of Veteran's Loan, VA Form 26-559.

OMB Control Number: 2900-0112.

Type of Review: Extension of a currently approved collection.

Abstract: Holders and servicers complete VA Form 26-599 to provide the current loan payment status of a veteran-borrower's home loan to VA. When a veteran-borrower requests a release from personal liability from the Government, (1) their loan payment must be current, (2) the transferee will assume the veteran's legal liabilities in connection with the loan, and (3) the purchaser must qualify from a credit standpoint.

An agency may not conduct or sponsor, and a person is not required to respond to a collection of information unless it displays a currently valid OMB control number. The Federal Register Notice with a 60-day comment period soliciting comments on this collection of information was published on November 2, 2005 at pages 66487-66488.

Affected Public: Individuals or households, Business or other for profit.

Estimated Annual Burden: 400 hours.

Estimated Average Burden Per Respondent: 10 minutes.

Frequency of Response: On occasion.

Estimated Number of Total Respondents: 2,400.

Dated: January 31, 2006.
By direction of the Secretary.
Denise McLamb,
Program Analyst, Records Management Service.

[FR Doc. E6-2080 Filed 2-13-06; 8:45 am]

BILLING CODE 8320-01-P